ENVIRONMENTAL PROTECTION AGENCY

40 CFR Part 52

[PA-4141a; FRL-7036-2]

Approval and Promulgation of Air Quality Implementation Plans; Pennsylvania; NOX RACT Determination for Armco Inc., Butler Operations Main Plant and Butler Operations Stainless Plant in the Pittsburgh-Beaver Valley Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for Armco Inc., Butler Operations Main Plant and Butler Operations Stainless Plant, major sources of nitrogen oxides (NOX) located in the Pittsburgh-Beaver Valley ozone nonattainment area (the Pittsburgh area). EPA is approving these revisions to establish RACT requirements in the SIP in accordance with the Clean Air Act (CAA).

DATES: This rule is effective on October 9, 2001 without further notice, unless EPA receives adverse written comment by September 21, 2001. If EPA receives such comments, it will publish a timely withdrawal of the direct final rule in the Federal Register and inform the public that the rule will not take effect.

ADDRESSES: Written comments should be mailed to David L. Arnold, Chief, Air Quality Planning & Information Services Branch, Air Protection Division, Mail code 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and the Pennsylvania Department of Environmental Protection, Bureau of Air Quality Control, P.O. Box 8468, 400 Market Street, Harrisburg, Pennsylvania 17105.

FOR FURTHER INFORMATION CONTACT: Michael Ioff at (215) 814-2166, the EPA Region III address above or by e-mail at ioff.mike@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major volatile organic compounds (VOC) and NOX sources. The major source size is determined by its location, the classification of that area and whether it is located in the ozone transport region (OTR). Under section 184 of the CAA, RACT as specified in sections 182(b)(2) and 182(f) applies throughout the OTR. The entire Commonwealth is located within the OTR. Therefore, RACT is applicable statewide in Pennsylvania.

State implementation plan revisions imposing reasonably available control technology (RACT) for three classes of VOC sources are required under section 182(b)(2). The categories are: (1) All sources covered by a Control Technique Guideline (CTG) document issued between November 15, 1990 and the date of attainment; (2) all sources covered by a CTG issued prior to November 15, 1990; (3) all other major non-CTG rules were due by November 15, 1992. The Pennsylvania SIP has approved RACT regulations and requirements for all sources and source categories covered by the CTG's.

On February 4, 1994, the Pennsylvania Department of Environmental Protection (PADEP) submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more. Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by-case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrates that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Allegheny, Armstrong, Beaver, Butler, Fayette, Washington, and Westmoreland Counties; the limited approval of Pennsylvania's generic VOC and NOX RACT regulations shall convert to a full approval for the Pittsburgh area.

On January 21, 1997, PADEP submitted revisions to the Pennsylvania SIP which establish and impose case-by-case RACT for several sources of VOC and/or NOX. This rulemaking pertains to two of those sources, the Armco Inc., Butler Operations Main Plant and the Armco Inc., Butler Operations Stainless Plant. Remaining sources are or have been the subject of separate rulemakings.

II. Summary of the SIP Revisions

A. Butler Operations Main Plant

The Armco Inc., Butler Operations Main Plant is a producer of flat rolled stainless and silicon steel slabs, sheets, and coils located in Butler, Butler County, Pennsylvania. The facility is not a major VOC emitting source. The facility is a major source of NOX, and is subject to RACT. The facility's Melt Shop consists of three Electric Arc Furnaces (EAFs), an Argon-Oxygen Decarburization (AOD) vessel, a Vacuum Degasser, five Ladle Preheaters, two Continuous Casters, and various auxiliary equipment. Other installations and processes at the Main Plant include Hot Mill with slab conditioning, Cold Mill, and North/Silicon Processing units with the associated annealing and pickling lines as well as other process/auxiliary equipment. The facility also includes five boilers and a number of preheat/heating/reheat/drying and annealing metallurgical furnaces and heaters. Pennsylvania established NOX RACT requirements for the facility in a RACT Plan Approval consisting of an operating permit, PA 10-001-M.

(1) Description of the NOX Emitting Installations and Processes

(a) EAFs at the Melt Shop: The EAFs are used at the facility to melt and refine the charge of metallic scrap, fluxes, and various alloying elements. The sufficient resistive heating is generated inside the refractory-lined furnace vessel by electrical current flowing between the three graphite electrodes and through the metallic charge. In spite of very high temperatures which arise inside the furnace during the melting phase, only modest NOX formation occurs. This is due to the fact that in the EAF process the generation of NOX is largely transferred from a steelmaking facility to an electric generating unit at a utility plant where those emissions are controlled.

(b) AOD vessel at the Melt Shop: The AOD vessel is a refractory-lined furnace used in the ladle metallurgical argon-oxygen decarburization process to refine stainless steel outside the EAF. During the oxygen-argon blowing, fluxes and alloy materials are added to the vessel. Immediately after the decarburization blow, molten steel is argon-stirred to achieve the desired chemical and temperature homogenization of the material. The AOD process primarily generates particulate emissions controlled by a baghouse. Waste gases from the process (consisting chiefly of carbon monoxide) are combusted in an open hood above the vessel's mouth producing a relatively small amount of NOX emissions.

(c) Vacuum Degasser at the Melt Shop: The installation is used to expose molten steel to a low-pressure environment in order to remove gaseous impurities from the steel. In the process, a vessel with molten steel is closed and placed under a slight negative pressure while natural gas-fired burners are keeping the steel in the molten state for processing. Based on the small amount of natural gas used in this operation, the installation does not present a significant source of NOX emissions.

(d) Continuous Caster at the Melt Shop: The Caster is used to form the molten steel (produced by the EAF and refined in the AOD/Vacuum Degasser) into a solid slab. In the process, molten steel is lifted in a ladle to the top of the casting machine where it poured into a tundish. From the tundish the molten steel flows in the water cooled mold where it formed into the shape of the slab. Modest NOX emissions are formed around the oxygen cutting torch at the exit of the Caster and during tundish maintenance associated with drying and preheating operations.

(e) Slab Reheat Furnaces at the Hot Mill: The furnaces are used to heat the slabs at a uniform rate to the temperature suitable for hot working and to hold them at that temperature for a specified period of time to impart the desired metallurgical properties for further processing steps. All four furnaces are natural gas-fired units with burners mounted in the roof of each furnace. Each furnace has a natural draft exhaust stack, a combustion blower and equipped with adjustable automatic temperature controls.

(f) Continuous Annealing Furnaces at various locations: Annealing furnaces are natural gas-fired units that are used to refine the steel grain structure, to relief stresses induced by hot or cold working, and to alter the mechanical properties of steel in order to improve its malleability. Heat treatment of stainless steels is conducted at a slow rate and relatively low temperatures to minimize thermal stresses and to avoid distortion and cracking. Annealing makes steel softer and more ductile by controlled heating and cooling.

(g) Continuous Decarburization and Drying Furnaces at Silicon Processing unit: The decarburization furnaces are used to remove residual carbon from silicon (electrical) steel by heating steel in a controlled atmosphere inside the furnace. The drying furnaces are used to cure a Magnesium-Oxide coating applied to the steel surface in order to produce a “glass-like” insulating layer which is required for the electrical applications of the product. The heat is supplied to the process furnaces by radiant tube heat exchangers where the burners are situated at the one end of the tube and the exhaust at the other end of the exchanger. Some of the furnaces are heated by electrical power as well as by natural gas.

(h) Pickling Lines at various locations: Pickling is the process used to remove the superficial scale that is formed on the steel surface during hot rolling, annealing, and cold rolling operations. The pickle tubs on all of the processing lines are covered and each processing line is vented to its own packed bed water scrubber. Steel coils are uncoiled and welded together to form a continuous strip which travels through the pickle tubs (where various acids and water are continuously fed) followed by cold and hot rinse tanks. The overflow from the pickle tubs, the rinse tanks and the acid fume scrubbers are neutralized with lime at the facility's wastewater treatment plant.

(2) Description of the RACT Determinations

The facility generates NOX emissions from forty-two installations/processes. Pennsylvania has determined that 14 combustion sources comprised of Ladle Preheaters and various metallurgical furnaces with rated heat inputs less than 20 MMBTU/hr are subject to SIP-approved presumptive RACT requirements set forth in 25 Pa. Code Section 129.93.(c)(1). Five of the other twenty-eight sources are natural gas-fired metallurgical furnaces and boilers with rated gross heat inputs less than 50 MMBTU/hr. Pennsylvania has determined that these sources are subject to SIP-approved presumptive RACT requirements set forth in 25 Pa. Code Section 129.93(b)(2). Pennsylvania has also determined that three Miscellaneous small combustion sources are subject to SIP-approved presumptive RACT requirements set forth in 25 Pa. Code Section 129.93.(b)(3). The remaining twenty sources are comprised of the three EAFs, AOD vessel, Vacuum Degasser, Pickling Lines #2, #12, #4 and #23, five Slab Reheat Furnaces, two Annealing Furnaces, and four boilers. A case-by-case detailed RACT analysis was performed for those twenty installations/processes. Pennsylvania's determinations of NOX RACT requirements are based on the analysis of whether or not the evaluated control technologies were economically and technically feasible options in each particular application. The following is the summary of Pennsylvania's RACT determinations.

(a) PA 10-001-M requires that the NOX emission limit for the inlet of the baghouse No. 3 serving the Melt Shop shall not exceed 75 lb/hr. This baghouse controls emissions from the EAFs, Casters, argon stirring station, ladle preheaters, and miscellaneous combustion sources. The permit also requires monitoring of the specified NOX emission limit by implementing an annual stack testing program.

(b) PA 10-001-M requires that the average NOX emission rate of pickle lines #2, #4, #12, #23 shall not exceed 1.0 lb/ton. The permit also requires monitoring of the specified NOX emission limit by implementing an annual stack testing program.

(c) PA 10-001-M requires AOD vessel; Vacuum Degasser; #1-6 ladle preheaters; #2-3 Continuous Caster; #20 and #26 Carlite; #1, #6, #11, #19 Decarburization and Drying furnaces, and CRNO Dryer to comply with the requirements of 25 PA Code Section 129.93(c)(1). In addition, Pennsylvania requires the sources to be operated in accordance with good air pollution control practices.

(d) PA 10-001-M requires annealing furnaces #2, #4, #7, and #12, CRNO furnace, and #19/20 Boiler to comply with the requirements of 25 PA Code Section 129.93(b)(3). In addition, Pennsylvania requires the sources to be operated in accordance with good air pollution control practices.

(e) PA 10-001-M limits annual fuel consumption for four Slab Reheat Furnaces and four boilers to a specified volume of natural gas expressed in thousand cubic feet per year for each installation.

All annual limits must be met on a rolling monthly basis over every consecutive 12-month period. PA 10-001-M imposes requirements for conducting the annual stack test programs including notification of the test, pre-approval of the stack test procedures, the number of tests, their duration, and post-test reporting requirements.

B. Butler Operations Stainless Plant

The Armco Inc., Butler Operations Stainless Plant is a processor of intermediate and final gauge 300 and 400 series stainless steel located in Butler, Butler County, Pennsylvania. The facility is not a major VOC emitting source. The facility is a major source of NOX and is subject to RACT. The facility consists of #22 Annealing Furnace, #22 Pickling Line and #13/#14 Boiler. Pennsylvania established NOX RACT requirements for the facility in a RACT Plan Approval consisting of an operating permit, PA 10-001-S.

(1) Description of the NOX Emitting Installations and Processes

The Butler Operations Stainless Plant is a finishing facility. The semi-finished products supplied by the Main Plant are annealed and pickled at the facility. The NOX emitting sources include #22 Annealing Furnace, #22 Pickling Line, and #13/#14 Boiler. The description of the NOX emitting installations and processes provided for the Main Plant, above, also describe those at Butler Operations Stainless Plant.

(2) Description of the RACT Determinations

(a) #13/#14 Boiler: The installation has a rated heat input of 21 MMBTU/hr. Pennsylvania has determined that this source is subject to the SIP-approved presumptive RACT emission limitations in 25 Pa. Code Section 129.93(b)(2).

(b) #22 Annealing Furnace: The installation has a rated heat input of 68 MMBTU/hr. Pennsylvania determined that NOX RACT for the #22 Annealing Furnace is compliance with the SIP-approved requirements of 25 PA Code Section 129.93(b)(3) and operation/maintenance of the furnace in accordance with good air pollution control practice.

(c) #22 Pickling Line: Pennsylvania determined NOX RACT for the #22 Pickling Line to be improvements to the water-based scrubber technology which was already in place. To this end, PA 10-001-S requires the facility to install/maintain the instrumentation to monitor water flow rates and scrubber pressure drops. In addition, Pennsylvania limits NOX emissions from the #22 Pickling Line to 1.6 lb/ton and requires monitoring of this NOX emission limit by implementing an annual stack testing program. PA 10-001-M imposes requirements for conducting the annual stack test programs including notification of the test, pre-approval of the stack test procedures, the number of tests, their duration, and post-test reporting requirements.

IV. Final Action

EPA is approving PA 10-001-M and PA 10-001-S, issued by PADEP to the Armco Inc., Butler Operations Main Plant and Armco Inc., Butler Operations Stainless Plant, respectively, as revisions to the Pennsylvania SIP. The permits were submitted by PADEP to establish and impose NOX RACT for Armco Inc., Butler Operations Main and Stainless Plant, major sources located in the Pittsburgh area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 9, 2001 without further notice unless EPA receives adverse comment by September 21, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section, or paragraph for that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for two named sources.

C. Petitions for Judicial Review

Under section 307(b)(1) of the Clean Air Act, petitions for judicial review of this action must be filed in the United States Court of Appeals for the appropriate circuit by October 22, 2001. Filing a petition for reconsideration by the Administrator of this final rule does not affect the finality of this rule for the purposes of judicial review nor does it extend the time within which a petition for judicial review may be filed, and shall not postpone the effectiveness of such rule or action. This action approving the Commonwealth's source-specific RACT requirements to control NOX from the Armco Inc., Butler Operations Main Plant and Armco Inc., Butler Operations Stainless Plant may not be challenged later in proceedings to enforce its requirements. (See section 307(b)(2).)

List of Subjects in 40 CFR Part 52

Environmental protection, Air pollution control, Incorporation by reference, Nitrogen Oxides, Ozone, Reporting and recordkeeping requirements.

Dated: August 8, 2001.
Thomas C. Voltaggio,
Deputy Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(175) to read as follows:

§ 52.2020 Identification of plan.

* * * * *

(c) * * *

(175) Revisions pertaining to NOX RACT determinations for the Armco Inc., Butler Operations Main Plant and Armco Inc., Butler Operations Stainless Plant, submitted by the Pennsylvania Department of Environmental Protection on January 21, 1997.

(i) Incorporation by reference.

(A) Letter submitted on January 21, 1997 by the Pennsylvania Department of Environmental Protection transmitting source-specific VOC and/or NOX RACT plan approvals in the form of permits.

(B) Permit Number: PA 10-001-M, effective February 23, 1996, for the Armco Inc., Butler Operations Main Plant in Butler, Butler County.

(C) Permit Number: PA 10-001-S, effective February 23, 1996, for the Armco Inc., Butler Operations Stainless Plant in Butler, Butler County.

(ii) Additional Materials—Other materials submitted by the Commonwealth of Pennsylvania in support of and pertaining to the RACT determination for the sources listed in (i)(B) and (C), above.

[FR Doc. 01-21150 Filed 8-21-01; 8:45 am]

BILLING CODE 6560-50-P